DEPARTMENT OF THE INTERIOR

Bureau of Land Management

[ID-110-1430-EU; DBG-07-1004; IDI-35476]

Notice of Realty Action; Competitive Sale of Public Land, Idaho

AGENCY: Bureau of Land Management, Interior.

ACTION: Notice of Realty Action.

SUMMARY: An 80.00 acre parcel of public land in Ada County, Idaho is being proposed for competitive sale under the provisions of the Federal Land Policy Management Act of 1976 (FLPMA), at no less than the appraised fair market value.

DATES: Comments must be received within 45 days following publication of this notice in the Federal Register.

ADDRESSES: Comments regarding the proposed sale or EA, as well as sealed bids, submitted to BLM, should be addressed to Rosemary Thomas, Four Rivers Field Manager, Bureau of Land Management, Boise District Office, 3948 Development Avenue, Boise, Idaho 83705, which is also the address for oral bidding registration, and the location where the public auction will be held.

FOR FURTHER INFORMATION CONTACT: Information regarding the competitive sale instructions, procedures, documents, including environmental and appraisal documents, maps, and materials to submit a bid can be obtained at the public reception desk at the BLM Boise District Office, from 8 a.m. to 4:30 p.m., Monday through Friday (except Federal holidays), or by contacting John Sullivan, Assistant Four Rivers Field Manager, at the above address or phone (208) 384-3338.

SUPPLEMENTARY INFORMATION: The following described public land in Ada County, Idaho, has been examined and found suitable for sale utilizing competitive sale procedures under the authority of Section 203 and Section 209 of FLPMA (90 Stat. 2750, 43 U.S.C. 1713 and 1719):

T. 2 N., R. 1 W., Boise Meridian, Idaho, sec. 34: SE¼SE¼; sec. 35: SW¼SW¼.

The area described contains 80.00 acres in Ada County.

The 1983 Kuna Management Framework Plan identified this parcel of public land as suitable for disposal subject to a site-specific analysis. BLM has prepared an Environmental Assessment (EA) for this proposed sale, pursuant to the National Environmental Policy Act. A draft of the EA is available for public review and comment in the BLM Boise District office. BLM will be accepting comments from the public regarding the EA during the time for comment on the proposed sale, up to 45 days after publication of this Notice in the Federal Register.

As of the date of publication of this notice in the Federal Register, the above described land is segregated from appropriation under the public land laws, including the mining laws, except the sale provisions of the FLPMA. The segregative effect will terminate upon issuance of a patent, publication in the Federal Register of a termination of the segregation, or two years from the date of publication of this notice in the Federal Register, whichever first occurs, unless extended by the BLM State Director in accordance with 43 CFR 2711.1-2(d) prior to the termination date.

The public land will not be offered for sale until at least 60 days after the date of publication of this notice in the Federal Register, and then at no less than the appraised fair market value of $1,600,000.00. A copy of the approved appraisal is located at the above address. The land patent, if issued, will be subject to the following terms, conditions and reservations:

1. A reservation to the United States of a right-of-way for ditches and canals constructed by the authority of the United States under the Act of August 30, 1890 (43 U.S.C. 945).

2. Those rights held by Ada County Highway District, its successors or assigns, for Kuna-Mora Road exercised under the Act of July 26, 1866 (43 U.S.C. 932) and noted under BLM Serial Number IDI-20038.

3. Pursuant to the requirements established by section 120(h) of the Comprehensive Environmental Response, Compensation, and Liability Act [42 U.S.C. 9620(h)] (CERCLA), as amended by the Superfund Amendments and Reauthorization Act of 1988 (100 Stat. 1670), notice is hereby given that the above-described lands have been examined and no evidence was found to indicate that any hazardous substances had been stored for one year or more, nor had any hazardous substances been disposed of or released on the subject property.

4. All purchasers/patentees, by accepting a patent, covenant and agree to indemnify, defend, and hold the United States harmless from any costs, damages, claims, causes of action, penalties, fines, liabilities, and judgments of any kind or nature arising from the past, present, and future acts or omissions of the patentees or their employees, agents, contractors, lessees, or any third party, arising out of or in connection with the patentee's use, occupancy, or operations on the patented real property. This indemnification and hold harmless agreement includes, but is not limited to, acts and omissions of the patentees and their employees, agents, contractors, or lessees, or any third party, arising out of or in connection with the use and/or occupancy of the patented real property which has already resulted or does hereafter result in: (1) Violations of Federal, State, and local laws and regulations that are now or may in the future become applicable to the real property; (2) Judgments, claims or demands of any kind assessed against the United States; (3) Costs, expenses, or damages of any kind incurred by the United States; (4) Releases or threatened releases of solid or hazardous waste(s), and/or hazardous substance(s), as defined by Federal or State environmental laws, off, on, into or under land, property and other interests of the United States; (5) Activities by which solid waste or hazardous substance(s) or waste, as defined by Federal and State environmental laws are generated, released, stored, used or otherwise disposed of on the patented real property, and any cleanup response, remedial action or other actions related in any manner to said solid or hazardous substance(s) or waste(s); or (6) Natural resource damages as defined by Federal and State law. This covenant shall be construed as running with the parcel of land patented or otherwise conveyed by the United States, and may be enforced by the United States in a court of competent jurisdiction.

The purchaser, by accepting the land patent, agrees to take the property subject to the current grazing lease until such time as the lease expires, or two years from the date of this notice, whichever first occurs.

This land will be offered for competitive sale on May 29, 2007, pursuant to 43 CFR 2711.3-1. In the event of a sale, the unreserved mineral estate will be conveyed simultaneously with the surface estate. The unreserved mineral interests have been determined to have no known mineral value pursuant to 43 CFR 2720.2(a). Acceptance of the sale offer will constitute an application for conveyance of the unreserved mineral interests. The purchaser will be required to pay a $50.00 non-refundable filing fee for conveyance of the available mineral interests.

The sale will be by sealed bid, followed by oral auction. All bids must be received at the BLM Boise District Office at the above address no later than 4:30 p.m. MST on the day before the sale. Federal law requires that bidders must be U.S. citizens 18 years of age or older, or in the case of a corporation, subject to the laws of any State of the U.S. Proof of citizenship shall accompany the bid.

At 10 a.m. MST on May 29, 2007, sealed bids will be opened at the BLM Boise District Office, and the highest acceptable sealed bid will be determined. An oral auction will follow the determination of the highest acceptable sealed bid at or in excess of the appraised fair market value, with the opening oral bid being for not less than the highest acceptable sealed bid. Oral bidding will continue until the highest bid is determined. If no oral bids are received, the highest acceptable sealed bid will be considered the purchaser.

The purchaser will have 30 days from the date of acceptance of the high bid to submit a deposit of 20 percent of the purchase price and the $50.00 filing fee for conveyance of mineral interests. The purchaser must remit the remainder of the purchase price within 180 days from the date of the sale. Payments must be by certified check, postal money order, bank draft or cashiers check payable to the U.S. Department of the Interior—BLM. Failure to meet conditions established for this sale will void the sale, and any monies received will be forfeited to the BLM.

Public Comments: For a period of 45 days following the publication of this notice in the Federal Register, the public and interested parties may submit written comments regarding the proposed sale and EA to the BLM Four Rivers Field Manager at the above address. Before including your address, phone number, e-mail address, or other personal identifying information in your comment, be advised that your entire comment—including your personal identifying information—may be made publicly available at any time.

Any adverse comments will be reviewed by the BLM Idaho State Director, who may sustain, vacate, or modify this realty action and issue a final determination. In the absence of any objections, this realty action will become the final determination of the Department of the Interior.

(Authority: 43 CFR 2711.1-2(a))

Dated: January 5, 2007.
Rosemary Thomas,
Four Rivers Field Manager.

[FR Doc. E7-5536 Filed 3-26-07; 8:45 am]

BILLING CODE 4310-GG-P